DEPARTMENT OF HOMELAND SECURITY

[Docket No. ICEB-2022-0002]

Privacy Act of 1974; System of Records

AGENCY: Immigration and Customs Enforcement, Department of Homeland Security.

ACTION: Rescindment of a system of records notice.

SUMMARY: In accordance with the Privacy Act of 1974, the U.S. Department of Homeland Security (DHS)/U.S. Immigration and Customs Enforcement (ICE) is giving notice that it is rescinding the following DHS/ICE Privacy Act system of records notices, “DHS/ICE-005 Trade Transparency and Research System of Records” and “DHS/ICE-016 FALCON Search and Analysis System of Records” and has consolidated both system of record notices into “DHS/ICE-018 Analytical Records System of Records.”

DATES: These changes will be effective upon publication.

ADDRESSES: You may submit comments, identified by docket number ICEB-2022-0002 by one of the following methods:

• Federal e-Rulemaking Portal: http://www.regulations.gov. Follow the instructions for submitting comments.

• Fax: 202-343-4010.

• Mail: Lynn Parker Dupree, Chief Privacy Officer, Privacy Office, U.S. Department of Homeland Security, Washington, DC 20528-0655.

FOR FURTHER INFORMATION CONTACT: For general questions please contact: Jordan Holz, Privacy Officer, ICEPrivacy@ice.dhs.gov, U.S. Immigration and Customs Enforcement (ICE), 500 12th Street SW, Mail Stop 5004, Washington, DC 20536, (202) 732-3300. For privacy questions, please contact: Lynn Parker Dupree, (202) 343-1717, Privacy@hq.dhs.gov, Chief Privacy Officer, Privacy Office, U.S. Department of Homeland Security, Washington, DC 20528-0655.

SUPPLEMENTARY INFORMATION: Pursuant to the provisions of the Privacy Act of 1974, 5 U.S.C. 552a, and as part of its ongoing integration and management efforts, the U.S. Department of Homeland Security (DHS) is rescinding the following system of records notices (SORN), “DHS/U.S. Immigration and Customs Enforcement (ICE)-005 Trade Transparency and Research (TTAR)” 79 FR 71112 (December 1, 2014) and “DHS/ICE-016 FALCON-Search and Analysis” 82 FR 20905 (May 4, 2017), and replace them with “DHS/ICE-018 Analytical Records” 86 FR 15246 (March 22, 2021). ICE will rely upon the DHS/ICE-018 Analytical Records SORN for records collected and maintained to support ICE's law enforcement mission. Eliminating these notices will have no adverse impacts on individuals, but will promote the overall streamlining and management of DHS Privacy Act record systems.

SYSTEM NAME AND NUMBER:

DHS/ICE-005 Trade Transparency Analysis and Research; DHS/ICE-016 FALCON Search and Analysis.

HISTORY:

DHS/ICE-005 Trade Transparency Analysis and Research, 79 FR 71112 (December 1, 2014), 77 FR 53893 (September 4, 2012), 73 FR 64967 (October 31, 2008); DHS/ICE-016 FALCON Search and Analysis, 82 FR 20905 (May 4, 2017).

* * * * *

Lynn P. Dupree,
Chief Privacy Officer, U.S. Department of Homeland Security.

[FR Doc. 2022-02323 Filed 2-3-22; 8:45 am]

BILLING CODE 9111-28-P